DEPARTMENT OF LABOR

Employment and Training Administration

Labor Surplus Area Classification Under Executive Orders 12073 and 10582; Notice of the Annual List of Labor Surplus Areas for All States Except Michigan

AGENCY: Employment and Training Administration, Labor.

ACTION: Notice.

DATES: The annual list of labor surplus areas is effective October 1, 2000 for all States except Michigan. In Michigan Fiscal Year 2000 classifications, effective October 1, 1999, remain in effect temporarily pending receipt of revised data.

SUMMARY: The purpose of this notice is to announce the annual list of labor surplus areas for Fiscal Year 2001.

FOR FURTHER INFORMATION CONTACT: Steven Aaronson, Leader, ES Operations Team Office of Workforce Security, Employment and Training Administration, 200 Constitution Avenue, NW., Room C-4518, Washington, DC 20210. Telephone: 202-219-9092, ext. 151.

SUPPLEMENTARY INFORMATION: The Department of Labor regulations implementing Executive Orders 12073 and 10582 are set forth at 20 CFR Part 654, Subparts A and B. Subpart A requires the Assistant Secretary of Labor to classify jurisdictions as labor surplus areas pursuant to the criteria specified in the regulations and to publish annually a list of labor surplus areas. Pursuant to those regulations the Assistant Secretary of Labor is hereby publishing the annual list of labor surplus areas.

Subpart B of Part 654 states that an area of substantial unemployment for purposes of Executive Order 10582 is any area classified as a labor surplus area under Subpart A. Thus, labor surplus areas under Executive Order 12073 are also areas of substantial unemployment under Executive Order 10582.

The areas listed below have been classified by the Assistant Secretary as labor surplus areas pursuant to 20 CFR 654.5(b)(48 FR 15615 April 12, 1983) effective October 1, 2000, except for Michigan where Fiscal Year 2001 classifications will be issued at a later date.

Signed at Washington, DC, on October 24, 2000.
Raymond L. Bramucci,
Assistant Secretary.

Labor Surplus Areas October 1, 2000 Through September 30, 2001
Eligible labor surplus areas | Civil jurisdictions included
ALABAMA
ANNISTON CITY | ANNISTON CITY IN CALHOUN COUNTY
BIBB COUNTY | BIBB COUNTY
BULLOCK COUNTY | BULLOCK COUNTY
BUTLER COUNTY | BUTLER COUNTY
CHOCTAW COUNTY | CHOCTAW COUNTY
CLARKE COUNTY | CLARKE COUNTY
COLBERT COUNTY | COLBERT COUNTY
CONECUH COUNTY | CONECUH COUNTY
COVINGTON COUNTY | COVINGTON COUNTY
CRENSHAW COUNTY | CRENSHAW COUNTY
DALLAS COUNTY | DALLAS COUNTY
ESCAMBIA COUNTY | ESCAMBIA COUNTY
FAYETTE COUNTY | FAYETTE COUNTY
FLORENCE CITY | FLORENCE CITY IN LAUDERDALE COUNTY
FRANKLIN COUNTY | FRANKLIN COUNTY
GADSDEN CITY | GADSDEN CITY IN ETOWAH COUNTY
GENEVA COUNTY | GENEVA COUNTY
GREENE COUNTY | GREENE COUNTY
HALE COUNTY | HALE COUNTY
JACKSON COUNTY | JACKSON COUNTY
LAMAR COUNTY | LAMAR COUNTY
LOWNDES COUNTY | LOWNDES COUNTY
MACON COUNTY | MACON COUNTY
MARENGO COUNTY | MARENGO COUNTY
MARION COUNTY | MARION COUNTY
MARSHALL COUNTY | MARSHALL COUNTY
MONROE COUNTY | MONROE COUNTY
PERRY COUNTY | PERRY COUNTY
PICKENS COUNTY | PICKENS COUNTY
PRICHARD CITY | PRICHARD CITY IN MOBILE COUNTY
SUMTER COUNTY | SUMTER COUNTY
WALKER COUNTY | WALKER COUNTY
WASHINGTON COUNTY | WASHINGTON COUNTY
WILCOX COUNTY | WILCOX COUNTY
ALASKA
ALEUTIAN ISLAND WEST CENSUS AREA | ALEUTIAN ISLAND WEST CENSUS AREA
BETHEL CENSUS AREA | BETHEL CENSUS AREA
BRISTOL BAY BOROUGH DIV | BRISTOL BAY BOROUGH DIV
DENALI BOROUGH | DENALI BOROUGH
DILLINGHAM CENSUS AREA | DILLINGHAM CENSUS AREA
FAIRBANKS CITY | FAIRBANKS CITY IN FAIRBANKS NORTH STAR BOROUGH
HAINES BOROUGH | HAINES BOROUGH
KENAI PENINSULA BOROUGH | KENAI PENINSULA BOROUGH
KETCHIKAN GATEWAY BOROUGH | KETCHIKAN GATEWAY BOROUGH
KODIAK ISLAND BOROUGH | KODIAK ISLAND BOROUGH
LAKE AND PENINSULA BOROUGH | LAKE AND PENINSULA BOROUGH
MATANUSKA-SUSITNA BOROUGH | MATANUSKA-SUSITNA BOROUGH
NOME CENSUS AREA | NOME CENSUS AREA
NORTH SLOPE BOROUGH | NORTH SLOPE BOROUGH
NORTHWEST ARCTIC BOROUGH | NORTHWEST ARCTIC BOROUGH
PRINCE OF WALES OUTER KETCHIKAN | PRINCE OF WALES OUTER KETCHIKAN
SKAGWAY-HOONAH-ANGOON CEN AREA | SKAGWAY-HOONAH-ANGOON CEN AREA
SOUTHEAST FAIRBANKS CENSUS AREA | SOUTHEAST FAIRBANKS CENSUS AREA
VALDEZ CORDOVA CENSUS AREA | VALDEZ CORDOVA CENSUS AREA
WADE HAMPTON CENSUS AREA | WADE HAMPTON CENSUS AREA
WRANGELL-PETERSBURG CENSUS AREA | WRANGELL-PETERSBURG CENSUS AREA
YAKUTAT BOROUGH | YAKUTAT BOROUGH
YUKON-KOYUKUK CENSUS AREA | YUKON-KOYUKUK CENSUS AREA
ARIZONA
APACHE COUNTY | APACHE COUNTY
BALANCE OF COCHISE COUNTY | COCHISE COUNTY LESS SIERRA VISTA CITY
BALANCE OF COCONINO COUNTY | COCONINO COUNTY LESS FLAGSTAFF CITY
GILA COUNTY | GILA COUNTY
GRAHAM COUNTY | GRAHAM COUNTY
GREENLEE COUNTY | GREENLEE COUNTY
LA PAZ COUNTY | LA PAZ COUNTY
NAVAJO COUNTY | NAVAJO COUNTY
SANTA CRUZ COUNTY | SANTA CRUZ COUNTY
YUMA CITY | YUMA CITY IN YUMA COUNTY
BALANCE OF YUMA COUNTY | YUMA COUNTY LESS YUMA CITY
ARKANSAS
ASHLEY COUNTY | ASHLEY COUNTY
BOONE COUNTY | BOONE COUNTY
BRADLEY COUNTY | BRADLEY COUNTY
CALHOUN COUNTY | CALHOUN COUNTY
CHICOT COUNTY | CHICOT COUNTY
CLAY COUNTY | CLAY COUNTY
CLEVELAND COUNTY | CLEVELAND COUNTY
COLUMBIA COUNTY | COLUMBIA COUNTY
CONWAY COUNTY | CONWAY COUNTY
CROSS COUNTY | CROSS COUNTY
DALLAS COUNTY | DALLAS COUNTY
DESHA COUNTY | DESHA COUNTY
DREW COUNTY | DREW COUNTY
HEMPSTEAD COUNTY | HEMPSTEAD COUNTY
JACKSON COUNTY | JACKSON COUNTY
BALANCE OF JEFFERSON COUNTY | JEFFERSON COUNTY LESS PINE BLUFF CITY
LAFAYETTE COUNTY | LAFAYETTE COUNTY
LAWRENCE COUNTY | LAWRENCE COUNTY
LEE COUNTY | LEE COUNTY
LINCOLN COUNTY | LINCOLN COUNTY
LITTLE RIVER COUNTY | LITTLE RIVER COUNTY
MISSISSIPPI COUNTY | MISSISSIPPI COUNTY
MONROE COUNTY | MONROE COUNTY
NEVADA COUNTY | NEVADA COUNTY
NEWTON COUNTY | NEWTON COUNTY
OUACHITA COUNTY | OUACHITA COUNTY
PERRY COUNTY | PERRY COUNTY
PHILLIPS COUNTY | PHILLIPS COUNTY
PINE BLUFF CITY | PINE BLUFF CITY IN JEFFERSON COUNTY
POINSETT COUNTY | POINSETT COUNTY
PRAIRIE COUNTY | PRAIRIE COUNTY
RANDOLPH COUNTY | RANDOLPH COUNTY
SEARCY COUNTY | SEARCY COUNTY
ST. FRANCIS COUNTY | ST. FRANCIS COUNTY
UNION COUNTY | UNION COUNTY
VAN BUREN COUNTY | VAN BUREN COUNTY
WOODRUFF COUNTY | WOODRUFF COUNTY
CALIFORNIA
ALPINE COUNTY | ALPINE COUNTY
AZUSA CITY | AZUSA CITY IN LOS ANGELES COUNTY
BAKERSFIELD CITY | BAKERSFIELD CITY IN KERN COUNTY
BALDWIN PARK CITY | BALDWIN PARK CITY IN LOS ANGELES COUNTY
BANNING CITY | BANNING CITY IN RIVERSIDE COUNTY
BELL CITY | BELL CITY IN LOS ANGELES COUNTY
BELL GARDENS CITY | BELL GARDENS CITY IN LOS ANGELES COUNTY
BALANCE OF BUTTE COUNTY | BUTTE COUNTY LESS CHICO CITY; PARADISE CITY
CALAVERAS COUNTY | CALAVERAS COUNTY
CALEXICO CITY | CALEXICO CITY IN IMPERIAL COUNTY
CARSON CITY | CARSON CITY IN LOS ANGELES COUNTY
CERES CITY | CERES CITY IN STANISLAUS COUNTY
CHICO CITY | CHICO CITY IN BUTTE COUNTY
CLOVIS CITY | CLOVIS CITY IN FRESNO COUNTY
COLTON CITY | COLTON CITY IN SAN BERNARDINO COUNTY
COLUSA COUNTY | COLUSA COUNTY
COMPTON CITY | COMPTON CITY IN LOS ANGELES COUNTY
DEL NORTE COUNTY | DEL NORTE COUNTY
DELANO CITY | DELANO CITY IN KERN COUNTY
EL CENTRO CITY | EL CENTRO CITY IN IMPERIAL COUNTY
EL MONTE CITY | EL MONTE CITY IN LOS ANGELES COUNTY
EUREKA CITY | EUREKA CITY IN HUMBOLDT COUNTY
FRESNO CITY | FRESNO CITY IN FRESNO COUNTY
BALANCE OF FRESNO COUNTY | FRESNO COUNTY LESS CLOVIS CITY, FRESNO CITY
GLENN COUNTY | GLENN COUNTY
HANFORD CITY | HANFORD CITY IN KINGS COUNTY
HEMET CITY | HEMET CITY IN RIVERSIDE COUNTY
HESPERIA CITY | HESPERIA CITY IN SAN BERNARDINO COUNTY
HIGHLAND CITY | HIGHLAND CITY IN SAN BERNARDINO COUNTY
HOLISTER CITY | HOLISTER CITY IN SAN BENITO COUNTY
BALANCE OF HUMBOLDT COUNTY | HUMBOLDT COUNTY LESS EUREKA CITY
HUNTINGTON PARK CITY | HUNTINGTON PARK CITY IN LOS ANGELES COUNTY
BALANCE OF IMPERIAL COUNTY | IMPERIAL COUNTY LESS CALEXICO CITY, EL CENTRO CITY
INDIO CITY | INDIO CITY IN RIVERSIDE COUNTY
INGLEWOOD CITY | INGLEWOOD CITY IN LOS ANGELES COUNTY
INYO COUNTY | INYO COUNTY
BALANCE OF KERN COUNTY | KERN COUNTY LESS BAKERSFIELD CITY, DELANO CITY, RIDGECREST CITY
BALANCE OF KINGS COUNTY | KINGS COUNTY LESS HANFORD CITY
LA PUENTE CITY | LA PUENTE CITY IN LOS ANGELES COUNTY
LAKE COUNTY | LAKE COUNTY
LAKE ELSINORE CITY | LAKE ELSINORE CITY IN RIVERSIDE COUNTY
LASSEN COUNTY | LASSEN COUNTY
LAWNDALE CITY | LAWNDALE CITY IN LOS ANGELES COUNTY
LODI CITY | LODI CITY IN SAN JOAQUIN COUNTY
LOS ANGELES CITY | LOS ANGELES CITY IN LOS ANGELES COUNTY
BALANCE OF LOS ANGELES COUNTY | LOS ANGELES COUNTY LESS AGOURA HILLS CITY, ALHAMBRA CITY, ARCADIA CITY, AZUSA CITY, BALDWIN PARK CITY, BELL CITY, BELL GARDENS CITY, BELLFLOWER CITY, BEVERLY HILLS CITY, BURBANK CITY, CARSON CITY, CERRITOS CITY, CLAREMONT CITY, COMPTON CITY, COVINA CITY, CULVER CITY, DIAMOND BAR CITY, DOWNEY CITY, EL MONTE CITY, GARDENA CITY, GLENDALE CITY, GLENDORA CITY, HAWTHORNE CITY, HUNTINGTON PARK CITY, INGLEWOOD CITY, LA MIRADA CITY, LA PUENTE CITY, LA VERNE CITY, LAKEWOOD CITY, LANCASTER CITY, LAWNDALE CITY, LONG BEACH CITY, LOS ANGELES CITY, LYNWOOD CITY, MANHATTAN BEACH CITY, MAYWOOD CITY, MONROVIA CITY, MONTEBELLO CITY, MONTEREY PARK CITY, NORWALK CITY, PALMDALE CITY, PARAMOUNT CITY, PASADENA CITY, PICO RIVERA CITY, POMONA CITY, RANCHO PALOS VERDES CITY, REDONDO BEACH CITY, ROSEMEAD CITY, SAN DIMAS CITY, SAN GABRIEL CITY, SANTA CLARITA CITY, SANTA MONICA CITY, SOUTH GATE CITY, TEMPLE CITY, TORRANCE CITY, WALNUT CITY, WEST COVINA CITY, WEST HOLLYWOOD CITY, WHITTIER CITY
LYNWOOD CITY | LYNWOOD CITY IN LOS ANGELES COUNTY
MADERA CITY | MADERA CITY IN MADERA COUNTY
BALANCE OF MADERA COUNTY | MADERA COUNTY LESS MADERA CITY
MANTECA CITY | MANTECA CITY IN SAN JOAQUIN COUNTY
MARINA CITY | MARINA CITY IN MONTEREY COUNTY
MARIPOSA COUNTY | MARIPOSA COUNTY
MAYWOOD CITY | MAYWOOD CITY IN LOS ANGELES COUNTY
MENDOCINO COUNTY | MENDOCINO COUNTY
MERCED CITY | MERCED CITY IN MERCED COUNTY
BALANCE OF MERCED COUNTY | MERCED COUNTY LESS MERCED CITY
MODESTO CITY | MODESTO CITY IN STANISLAUS COUNTY
MODOC COUNTY | MODOC COUNTY
MONO COUNTY | MONO COUNTY
BALANCE OF MONTEREY COUNTY | MONTEREY COUNTY LESS MARINA CITY, MONTEREY CITY, SALINAS CITY, SEASIDE CITY
MORENO VALLEY CITY | MORENO VALLEY CITY IN RIVERSIDE COUNTY
NATIONAL CITY | NATIONAL CITY IN SAN DIEGO COUNTY
OAKLAND CITY | OAKLAND CITY IN ALAMEDA COUNTY
OXNARD CITY | OXNARD CITY IN VENTURA COUNTY
PARAMOUNT CITY | PARAMOUNT CITY IN LOS ANGELES COUNTY
PERRIS CITY | PERRIS CITY IN RIVERSIDE COUNTY
PICO RIVERA CITY | PICO RIVERA CITY IN LOS ANGELES COUNTY
PLUMAS COUNTY | PLUMAS COUNTY
POMONA CITY | POMONA CITY IN LOS ANGELES COUNTY
PORTERVILLE CITY | PORTERVILLE CITY IN TULARE COUNTY
REDDING CITY | REDDING CITY IN SHASTA COUNTY
RICHMOND CITY | RICHMOND CITY IN CONTRA COSTA COUNTY
RIDGECREST CITY | RIDGECREST CITY IN KERN COUNTY
RIVERSIDE CITY | RIVERSIDE CITY IN RIVERSIDE COUNTY
BALANCE OF RIVERSIDE COUNTY | RIVERSIDE COUNTY LESS BANNING CITY, CATHEDRAL CITY, CORONA CITY, HEMET CITY, INDIO CITY, LAKE ELSINORE CITY, MORENO VALLEY CITY, MURRIETA CITY, NORCO CITY, PALM DESERT CITY, PALM SPRINGS CITY, PERRIS CITY, RIVERSIDE CITY, TEMECULA CITY
ROSEMEAD CITY | ROSEMEAD CITY IN LOS ANGELES COUNTY
SALINAS CITY | SALINAS CITY IN MONTEREY COUNTY
BALANCE OF SAN BENITO COUNTY | SAN BENITO COUNTY LESS HOLISTER CITY
SAN BERNARDINO CITY | SAN BERNARDINO CITY IN SAN BERNARDINO COUNTY
BALANCE OF SAN JOAQUIN COUNTY | SAN JOAQUIN COUNTY LESS LODI CITY, MANTECA CITY, STOCKTON CITY, TRACEY CITY
SAN PABLO CITY | SAN PABLO CITY IN CONTRA COSTA COUNTY
SANTA CRUZ CITY | SANTA CRUZ CITY IN SANTA CRUZ COUNTY
SANTA MARIA CITY | SANTA MARIA CITY IN SANTA BARBARA COUNTY
SANTA PAULA CITY | SANTA PAULA CITY IN VENTURA COUNTY
SEASIDE CITY | SEASIDE CITY IN MONTEREY COUNTY
BALANCE OF SHASTA COUNTY | SHASTA COUNTY LESS REDDING CITY
SIERRA COUNTY | SIERRA COUNTY
SISKIYOU COUNTY | SISKIYOU COUNTY
SOUTH GATE CITY | SOUTH GATE CITY IN LOS ANGELES COUNTY
BALANCE OF STANISLAUS COUNTY | STANISLAUS COUNTY LESS CERES CITY, MODESTO CITY, TURLOCK CITY
STOCKTON CITY | STOCKTON CITY IN SAN JOAQUIN COUNTY
SUISON CITY | SUISON CITY IN SOLANO COUNTY
BALANCE OF SUTTER COUNTY | SUTTER COUNTY LESS YUBA CITY
TEHAMA COUNTY | TEHAMA COUNTY
TRACEY CITY | TRACEY CITY IN SAN JOAQUIN COUNTY
TRINITY COUNTY | TRINITY COUNTY
TULARE CITY | TULARE CITY IN TULARE COUNTY
BALANCE OF TULARE COUNTY | TULARE COUNTY LESS PORTERVILLE CITY, TULARE CITY, VISALIA CITY
TUOLUMNE COUNTY | TUOLUMNE COUNTY
TURLOCK CITY | TURLOCK CITY IN STANISLAUS COUNTY
VICTORVILLE CITY | VICTORVILLE CITY IN SAN BERNARDINO COUNTY
VISALIA CITY | VISALIA CITY IN TULARE COUNTY
WATSONVILLE CITY | WATSONVILLE CITY IN SANTA CRUZ COUNTY
WEST SACRAMENTO CITY | WEST SACRAMENTO CITY IN YOLO COUNTY
YUBA CITY | YUBA CITY IN SUTTER COUNTY
YUBA COUNTY | YUBA COUNTY
COLORADO
ALAMOSA COUNTY | ALAMOSA COUNTY
CONEJOS COUNTY | CONEJOS COUNTY
COSTILLA COUNTY | COSTILLA COUNTY
DOLORES COUNTY | DOLORES COUNTY
HUERFANO COUNTY | HUERFANO COUNTY
PUEBLO CITY | PUEBLO CITY IN PUEBLO COUNTY
RIO GRANDE COUNTY | RIO GRANDE COUNTY
SAGUACHE COUNTY | SAGUACHE COUNTY
SAN JUAN COUNTY | SAN JUAN COUNTY
CONNECTICUT
BRIDGEPORT CITY | BRIDGEPORT CITY
HARTFORD CITY | HARTFORD CITY
KILLINGLY TOWN | KILLINGLY TOWN
VOLUNTOWN TOWN | VOLUNTOWN TOWN
DISTRICT OF COLUMBIA
WASHINGTON DC CITY | WASHINGTON DC CITY IN DISTRICT OF COLUMBIA
FLORIDA
CALHOUN COUNTY | CALHOUN COUNTY
DE SOTO COUNTY | DE SOTO COUNTY
DELRAY BEACH CITY | DELRAY BEACH CITY IN PALM BEACH COUNTY
FORT PIERCE CITY | FORT PIERCE CITY IN ST. LUCIE COUNTY
GLADES COUNTY | GLADES COUNTY
GULF COUNTY | GULF COUNTY
HAMILTON COUNTY | HAMILTON COUNTY
HARDEE COUNTY | HARDEE COUNTY
HENDRY COUNTY | HENDRY COUNTY
HIALEAH CITY | HIALEAH CITY IN MIAMI-DADE COUNTY
HIGHLANDS COUNTY | HIGHLANDS COUNTY
INDIAN RIVER COUNTY | INDIAN RIVER COUNTY
LAUDERDALE LAKES CITY | LAUDERDALE LAKES CITY IN BROWARD COUNTY
MIAMI BEACH CITY | MIAMI BEACH CITY IN MIAMI-DADE COUNTY
MIAMI CITY | MIAMI CITY IN MIAMI-DADE COUNTY
NORTH MIAMI CITY | NORTH MIAMI CITY IN MIAMI-DADE COUNTY
OKEECHOBEE COUNTY | OKEECHOBEE COUNTY
PANAMA CITY | PANAMA CITY IN BAY COUNTY
PORT ST. LUCIE CITY | PORT ST. LUCIE CITY IN ST. LUCIE COUNTY
RIVIERA BEACH CITY | RIVIERA BEACH CITY IN PALM BEACH COUNTY
BALANCE OF ST. LUCIE COUNTY | ST. LUCIE COUNTY LESS FORT PIERCE CITY, PORT ST. LUCIE CITY
TAYLOR COUNTY | TAYLOR COUNTY
WEST PALM BEACH CITY | WEST PALM BEACH CITY IN PALM BEACH COUNTY
GEORGIA
ALBANY CITY | ALBANY CITY IN DOUGHERTY COUNTY
APPLING COUNTY | APPLING COUNTY
ATKINSON COUNTY | ATKINSON COUNTY
AUGUSTA CITY | AUGUSTA CITY IN RICHMOND COUNTY
BACON COUNTY | BACON COUNTY
BAKER COUNTY | BAKER COUNTY
BEN HILL COUNTY | BEN HILL COUNTY
BRANTLEY COUNTY | BRANTLEY COUNTY
BURKE COUNTY | BURKE COUNTY
CALHOUN COUNTY | CALHOUN COUNTY
CHATTAHOOCHEE COUNTY | CHATTAHOOCHEE COUNTY
CLAY COUNTY | CLAY COUNTY
CRISP COUNTY | CRISP COUNTY
DOOLY COUNTY | DOOLY COUNTY
EARLY COUNTY | EARLY COUNTY
ELBERT COUNTY | ELBERT COUNTY
EMANUEL COUNTY | EMANUEL COUNTY
GLASCOCK COUNTY | GLASCOCK COUNTY
GRADY COUNTY | GRADY COUNTY
GREENE COUNTY | GREENE COUNTY
HANCOCK COUNTY | HANCOCK COUNTY
HINESVILLE CITY | HINESVILLE CITY IN LIBERTY COUNTY
JEFF DAVIS COUNTY | JEFF DAVIS COUNTY
JEFFERSON COUNTY | JEFFERSON COUNTY
JOHNSON COUNTY | JOHNSON COUNTY
LA GRANGE CITY | LA GRANGE CITY IN TROUP COUNTY
LAURENS COUNTY | LAURENS COUNTY
BALANCE OF LIBERTY COUNTY | LIBERTY COUNTY LESS HINESVILLE CITY
LINCOLN COUNTY | LINCOLN COUNTY
MACON CITY | MACON CITY IN BIBB COUNTY
| JONES COUNTY
MACON COUNTY | MACON COUNTY
MC DUFFIE COUNTY | MC DUFFIE COUNTY
MITCHELL COUNTY | MITCHELL COUNTY
MONROE COUNTY | MONROE COUNTY
MONTGOMERY COUNTY | MONTGOMERY COUNTY
PEACH COUNTY | PEACH COUNTY
RANDOLPH COUNTY | RANDOLPH COUNTY
ROME CITY | ROME CITY IN FLOYD COUNTY
SCREVEN COUNTY | SCREVEN COUNTY
STEWART COUNTY | STEWART COUNTY
SUMTER COUNTY | SUMTER COUNTY
TALIAFERRO COUNTY | TALIAFERRO COUNTY
TAYLOR COUNTY | TAYLOR COUNTY
TELFAIR COUNTY | TELFAIR COUNTY
TERRELL COUNTY | TERRELL COUNTY
TOOMBS COUNTY | TOOMBS COUNTY
TREUTLEN COUNTY | TREUTLEN COUNTY
TURNER COUNTY | TURNER COUNTY
TWIGGS COUNTY | TWIGGS COUNTY
WARREN COUNTY | WARREN COUNTY
WASHINGTON COUNTY | WASHINGTON COUNTY
WAYNE COUNTY | WAYNE COUNTY
WHEELER COUNTY | WHEELER COUNTY
WILKES COUNTY | WILKES COUNTY
WILKINSON COUNTY | WILKINSON COUNTY
WORTH COUNTY | WORTH COUNTY
HAWAII
HAWAII COUNTY | HAWAII COUNTY
KAUAI COUNTY | KAUAI COUNTY
MAUI COUNTY | MAUI COUNTY
IDAHO
ADAMS COUNTY | ADAMS COUNTY
BENEWAH COUNTY | BENEWAH COUNTY
BOISE COUNTY | BOISE COUNTY
BONNER COUNTY | BONNER COUNTY
BOUNDARY COUNTY | BOUNDARY COUNTY
CARIBOU COUNTY | CARIBOU COUNTY
CASSIA COUNTY | CASSIA COUNTY
CLEARWATER COUNTY | CLEARWATER COUNTY
COEUR D ALENE CITY | COEUR D ALENE CITY
CUSTER COUNTY | CUSTER COUNTY
ELMORE COUNTY | ELMORE COUNTY
FREMONT COUNTY | FREMONT COUNTY
GEM COUNTY | GEM COUNTY
IDAHO COUNTY | IDAHO COUNTY
BALANCE OF KOOTENAI COUNTY | KOOTENAI COUNTY LESS COEUR D ALENE CITY
LEMHI COUNTY | LEMHI COUNTY
LEWIS COUNTY | LEWIS COUNTY
MINIDOKA COUNTY | MINIDOKA COUNTY
BALANCE OF NEZ PERCE COUNTY | NEZ PERCE COUNTY LESS LEWISTON CITY
PAYETTE COUNTY | PAYETTE COUNTY
POWER COUNTY | POWER COUNTY
SHOSHONE COUNTY | SHOSHONE COUNTY
VALLEY COUNTY | VALLEY COUNTY
WASHINGTON COUNTY | WASHINGTON COUNTY
ILLINOIS
ALEXANDER COUNTY | ALEXANDER COUNTY
ALTON CITY | ALTON CITY IN MADISON COUNTY
BELLEVILLE CITY | BELLEVILLE CITY IN ST. CLAIR COUNTY
CARPENTERSVILLE CITY | CARPENTERSVILLE CITY IN KANE COUNTY
CHICAGO HEIGHTS CITY | CHICAGO HEIGHTS CITY IN COOK COUNTY
CICERO CITY | CICERO CITY IN COOK COUNTY
CLAY COUNTY | CLAY COUNTY
CRAWFORD COUNTY | CRAWFORD COUNTY
DANVILLE CITY | DANVILLE CITY IN VERMILION COUNTY
DECATUR CITY | DECATUR CITY IN MACON COUNTY
DOLTON VILLAGE | DOLTON VILLAGE IN COOK COUNTY
EAST ST. LOUIS CITY | EAST ST. LOUIS CITY IN ST. CLAIR COUNTY
EDWARDS COUNTY | EDWARDS COUNTY
FAYETTE COUNTY | FAYETTE COUNTY
FRANKLIN COUNTY | FRANKLIN COUNTY
FREEPORT CITY | FREEPORT CITY IN STEPHENSON COUNTY
FULTON COUNTY | FULTON COUNTY
GALLATIN COUNTY | GALLATIN COUNTY
GRANITE CITY | GRANITE CITY IN MADISON COUNTY
GRUNDY COUNTY | GRUNDY COUNTY
HAMILTON COUNTY | HAMILTON COUNTY
HARDIN COUNTY | HARDIN COUNTY
HARVEY CITY | HARVEY CITY IN COOK COUNTY
JASPER COUNTY | JASPER COUNTY
JEFFERSON COUNTY | JEFFERSON COUNTY
JOHNSON COUNTY | JOHNSON COUNTY
JOLIET CITY | JOLIET CITY IN WILL COUNTY
KANKAKEE CITY | KANKAKEE CITY IN KANKAKEE COUNTY
LA SALLE COUNTY | LA SALLE COUNTY
LAWRENCE COUNTY | LAWRENCE COUNTY
MARION COUNTY | MARION COUNTY
MASON COUNTY | MASON COUNTY
MAYWOOD VILLAGE | MAYWOOD VILLAGE IN COOK COUNTY
MERCER COUNTY | MERCER COUNTY
MONTGOMERY COUNTY | MONTGOMERY COUNTY
NORTH CHICAGO CITY | NORTH CHICAGO CITY IN LAKE COUNTY
PERRY COUNTY | PERRY COUNTY
POPE COUNTY | POPE COUNTY
PULASKI COUNTY | PULASKI COUNTY
RICHLAND COUNTY | RICHLAND COUNTY
ROCKFORD CITY | ROCKFORD CITY IN WINNEBAGO COUNTY
SALINE COUNTY | SALINE COUNTY
UNION COUNTY | UNION COUNTY
WABASH COUNTY | WABASH COUNTY
WAUKEGAN CITY | WAUKEGAN CITY IN LAKE COUNTY
WAYNE COUNTY | WAYNE COUNTY
WHITE COUNTY | WHITE COUNTY
WILLIAMSON COUNTY | WILLIAMSON COUNTY
INDIANA
EAST CHICAGO CITY | EAST CHICAGO CITY IN LAKE COUNTY
GARY CITY | GARY CITY IN LAKE COUNTY
GREENE COUNTY | GREENE COUNTY
ORANGE COUNTY | ORANGE COUNTY
RANDOLPH COUNTY | RANDOLPH COUNTY
KANSAS
GEARY COUNTY | GEARY COUNTY
KANSAS CITY KN | KANSAS CITY KN IN WYANDOTTE COUNTY
LINN COUNTY | LINN COUNTY
KENTUCKY
ADAIR COUNTY | ADAIR COUNTY
BOYD COUNTY | BOYD COUNTY
BREATHITT COUNTY | BREATHITT COUNTY
CARTER COUNTY | CARTER COUNTY
CASEY COUNTY | CASEY COUNTY
CLAY COUNTY | CLAY COUNTY
CRITTENDEN COUNTY | CRITTENDEN COUNTY
CUMBERLAND COUNTY | CUMBERLAND COUNTY
EDMONSON COUNTY | EDMONSON COUNTY
ELLIOTT COUNTY | ELLIOTT COUNTY
FLOYD COUNTY | FLOYD COUNTY
FULTON COUNTY | FULTON COUNTY
GRAYSON COUNTY | GRAYSON COUNTY
GREEN COUNTY | GREEN COUNTY
GREENUP COUNTY | GREENUP COUNTY
HANCOCK COUNTY | HANCOCK COUNTY
HARLAN COUNTY | HARLAN COUNTY
HENDERSON CITY | HENDERSON CITY IN HENDERSON COUNTY
JOHNSON COUNTY | JOHNSON COUNTY
KNOTT COUNTY | KNOTT COUNTY
LAWRENCE COUNTY | LAWRENCE COUNTY
LETCHER COUNTY | LETCHER COUNTY
LEWIS COUNTY | LEWIS COUNTY
MAGOFFIN COUNTY | MAGOFFIN COUNTY
MARTIN COUNTY | MARTIN COUNTY
MC CREARY COUNTY | MC CREARY COUNTY
MC LEAN COUNTY | MC LEAN COUNTY
MENIFEE COUNTY | MENIFEE COUNTY
MONROE COUNTY | MONROE COUNTY
MORGAN COUNTY | MORGAN COUNTY
MUHLENBERG COUNTY | MUHLENBERG COUNTY
OHIO COUNTY | OHIO COUNTY
PERRY COUNTY | PERRY COUNTY
PIKE COUNTY | PIKE COUNTY
RUSSELL COUNTY | RUSSELL COUNTY
TAYLOR COUNTY | TAYLOR COUNTY
UNION COUNTY | UNION COUNTY
WAYNE COUNTY | WAYNE COUNTY
WEBSTER COUNTY | WEBSTER COUNTY
LOUISIANA
ACADIA PARISH | ACADIA PARISH
ALEXANDRIA CITY | ALEXANDRIA CITY IN RAPIDES PARISH
ALLEN PARISH | ALLEN PARISH
ASSUMPTION PARISH | ASSUMPTION PARISH
AVOYELLES PARISH | AVOYELLES PARISH
BEAUREGARD PARISH | BEAUREGARD PARISH
BIENVILLE PARISH | BIENVILLE PARISH
CALDWELL PARISH | CALDWELL PARISH
CATAHOULA PARISH | CATAHOULA PARISH
CLAIBORNE PARISH | CLAIBORNE PARISH
CONCORDIA PARISH | CONCORDIA PARISH
DE SOTO PARISH | DE SOTO PARISH
EAST CARROLL PARISH | EAST CARROLL PARISH
FRANKLIN PARISH | FRANKLIN PARISH
GRANT PARISH | GRANT PARISH
BALANCE OF IBERIA PARISH | IBERIA PARISH LESS NEW IBERIA CITY
IBERVILLE PARISH | IBERVILLE PARISH
JACKSON PARISH | JACKSON PARISH
JEFFERSON DAVIS PARISH | JEFFERSON DAVIS PARISH
LA SALLE PARISH | LA SALLE PARISH
LAKE CHARLES CITY | LAKE CHARLES CITY IN CALCASIEU PARISH
MADISON PARISH | MADISON PARISH
MONROE CITY | MONROE CITY IN OUACHITA PARISH
MOREHOUSE PARISH | MOREHOUSE PARISH
NEW IBERIA CITY | NEW IBERIA CITY IN IBERIA PARISH
POINTE COUPEE PARISH | POINTE COUPEE PARISH
RED RIVER PARISH | RED RIVER PARISH
RICHLAND PARISH | RICHLAND PARISH
SABINE PARISH | SABINE PARISH
ST. JAMES PARISH | ST. JAMES PARISH
ST. JOHN BAPTIST PARISH | ST. JOHN BAPTIST PARISH
ST. LANDRY PARISH | ST. LANDRY PARISH
ST. MARTIN PARISH | ST. MARTIN PARISH
ST. MARY PARISH | ST. MARY PARISH
TANGIPAHOA PARISH | TANGIPAHOA PARISH
TENSAS PARISH | TENSAS PARISH
VERMILION PARISH | VERMILION PARISH
VERNON PARISH | VERNON PARISH
WASHINGTON PARISH | WASHINGTON PARISH
WEBSTER PARISH | WEBSTER PARISH
WEST CARROLL PARISH | WEST CARROLL PARISH
WINN PARISH | WINN PARISH
MAINE
AROOSTOOK COUNTY | AROOSTOOK COUNTY
FRANKLIN COUNTY | FRANKLIN COUNTY
OXFORD COUNTY | OXFORD COUNTY
PISCATAQUIS COUNTY | PISCATAQUIS COUNTY
SOMERSET COUNTY | SOMERSET COUNTY
WASHINGTON COUNTY | WASHINGTON COUNTY
MARYLAND
ALLEGANY COUNTY | ALLEGANY COUNTY
BALTIMORE CITY | BALTIMORE CITY
DORCHESTER COUNTY | DORCHESTER COUNTY
GARRETT COUNTY | GARRETT COUNTY
SOMERSET COUNTY | SOMERSET COUNTY
WORCESTER COUNTY | WORCESTER COUNTY
MASSACHUSETTS
FALL RIVER CITY | FALL RIVER CITY IN BRISTOL COUNTY
GAY HEAD TOWN | GAY HEAD TOWN IN DUKES COUNTY
HINSDALE TOWN | HINSDALE TOWN IN BERKSHIRE COUNTY
LAWRENCE CITY | LAWRENCE CITY IN ESSEX COUNTY
NEW BEDFORD CITY | NEW BEDFORD CITY IN BRISTOL COUNTY
PROVINCETOWN TOWN | PROVINCETOWN TOWN IN BARNSTABLE COUNTY
TRURO TOWN | TRURO TOWN IN BARNSTABLE COUNTY
WELLFLEET TOWN | WELLFLEET TOWN IN BARNSTABLE COUNTY
MICHIGAN
ALCONA COUNTY | ALCONA COUNTY
ALGER COUNTY | ALGER COUNTY
ALPENA COUNTY | ALPENA COUNTY
ANTRIM COUNTY | ANTRIM COUNTY
ARENAC COUNTY | ARENAC COUNTY
BARAGA COUNTY | BARAGA COUNTY
BAY CITY | BAY CITY IN BAY COUNTY
BENZIE COUNTY | BENZIE COUNTY
BURTON CITY | BURTON CITY IN GENESEE COUNTY
CHEBOYGAN COUNTY | CHEBOYGAN COUNTY
CHIPPEWA COUNTY | CHIPPEWA COUNTY
CLARE COUNTY | CLARE COUNTY
CRAWFORD COUNTY | CRAWFORD COUNTY
DELTA COUNTY | DELTA COUNTY
DETROIT CITY | DETROIT CITY IN WAYNE COUNTY
EMMET COUNTY | EMMET COUNTY
FLINT CITY | FLINT CITY IN GENESEE COUNTY
GLADWIN COUNTY | GLADWIN COUNTY
GOGEBIC COUNTY | GOGEBIC COUNTY
HIGHLAND PARK CITY | HIGHLAND PARK CITY IN WAYNE COUNTY
IOSCO COUNTY | IOSCO COUNTY
IRON COUNTY | IRON COUNTY
JACKSON CITY | JACKSON CITY IN JACKSON COUNTY
KALKASKA COUNTY | KALKASKA COUNTY
KEWEENAW COUNTY | KEWEENAW COUNTY
LAKE COUNTY | LAKE COUNTY
LUCE COUNTY | LUCE COUNTY
MACKINAC COUNTY | MACKINAC COUNTY
MANISTEE COUNTY | MANISTEE COUNTY
MASON COUNTY | MASON COUNTY
MENOMINEE COUNTY | MENOMINEE COUNTY
MISSAUKEE COUNTY | MISSAUKEE COUNTY
MONTCALM COUNTY | MONTCALM COUNTY
MONTMORENCY COUNTY | MONTMORENCY COUNTY
MOUNT MORRIS TOWNSHIP | MOUNT MORRIS TOWNSHIP IN GENESEE COUNTY
MUSKEGON CITY | MUSKEGON CITY IN MUSKEGON COUNTY
NEWAYGO COUNTY | NEWAYGO COUNTY
OCEANA COUNTY | OCEANA COUNTY
OGEMAW COUNTY | OGEMAW COUNTY
ONTONAGON COUNTY | ONTONAGON COUNTY
OSCEOLA COUNTY | OSCEOLA COUNTY
OSCODA COUNTY | OSCODA COUNTY
PONTIAC CITY | PONTIAC CITY IN OAKLAND COUNTY
PORT HURON CITY | PORT HURON CITY IN ST. CLAIR COUNTY
PRESQUE ISLE COUNTY | PRESQUE ISLE COUNTY
ROSCOMMON COUNTY | ROSCOMMON COUNTY
SAGINAW CITY | SAGINAW CITY IN SAGINAW COUNTY
SCHOOLCRAFT COUNTY | SCHOOLCRAFT COUNTY
WEXFORD COUNTY | WEXFORD COUNTY
MINNESOTA
AITKIN COUNTY | AITKIN COUNTY
CLEARWATER COUNTY | CLEARWATER COUNTY
ITASCA COUNTY | ITASCA COUNTY
KANABEC COUNTY | KANABEC COUNTY
KOOCHICHING COUNTY | KOOCHICHING COUNTY
MAHNOMEN COUNTY | MAHNOMEN COUNTY
MARSHALL COUNTY | MARSHALL COUNTY
MILLE LACS COUNTY | MILLE LACS COUNTY
PINE COUNTY | PINE COUNTY
RED LAKE COUNTY | RED LAKE COUNTY
MISSISSIPPI
ADAMS COUNTY | ADAMS COUNTY
ALCORN COUNTY | ALCORN COUNTY
ATTALA COUNTY | ATTALA COUNTY
BENTON COUNTY | BENTON COUNTY
BOLIVAR COUNTY | BOLIVAR COUNTY
CHICKASAW COUNTY | CHICKASAW COUNTY
CHOCTAW COUNTY | CHOCTAW COUNTY
CLAIBORNE COUNTY | CLAIBORNE COUNTY
CLARKE COUNTY | CLARKE COUNTY
CLAY COUNTY | CLAY COUNTY
COAHOMA COUNTY | COAHOMA COUNTY
COLUMBUS CITY | COLUMBUS CITY IN LOWNDES COUNTY
COPIAH COUNTY | COPIAH COUNTY
FRANKLIN COUNTY | FRANKLIN COUNTY
GEORGE COUNTY | GEORGE COUNTY
GREENE COUNTY | GREENE COUNTY
GREENVILLE CITY | GREENVILLE CITY IN WASHINGTON COUNTY
HOLMES COUNTY | HOLMES COUNTY
HUMPHREYS COUNTY | HUMPHREYS COUNTY
ISSAQUENA COUNTY | ISSAQUENA COUNTY
JEFFERSON COUNTY | JEFFERSON COUNTY
JEFFERSON DAVIS COUNTY | JEFFERSON DAVIS COUNTY
KEMPER COUNTY | KEMPER COUNTY
LAWRENCE COUNTY | LAWRENCE COUNTY
LEFLORE COUNTY | LEFLORE COUNTY
MARION COUNTY | MARION COUNTY
MERIDIAN CITY | MERIDIAN CITY IN LAUDERDALE COUNTY
MONROE COUNTY | MONROE COUNTY
MONTGOMERY COUNTY | MONTGOMERY COUNTY
NEWTON COUNTY | NEWTON COUNTY
NOXUBEE COUNTY | NOXUBEE COUNTY
PANOLA COUNTY | PANOLA COUNTY
PERRY COUNTY | PERRY COUNTY
PRENTISS COUNTY | PRENTISS COUNTY
QUITMAN COUNTY | QUITMAN COUNTY
SHARKEY COUNTY | SHARKEY COUNTY
SIMPSON COUNTY | SIMPSON COUNTY
SUNFLOWER COUNTY | SUNFLOWER COUNTY
TALLAHATCHIE COUNTY | TALLAHATCHIE COUNTY
TISHOMINGO COUNTY | TISHOMINGO COUNTY
TUNICA COUNTY | TUNICA COUNTY
BALANCE OF WASHINGTON COUNTY | WASHINGTON COUNTY LESS GREENVILLE CITY
WAYNE COUNTY | WAYNE COUNTY
WILKINSON COUNTY | WILKINSON COUNTY
WINSTON COUNTY | WINSTON COUNTY
YALOBUSHA COUNTY | YALOBUSHA COUNTY
YAZOO COUNTY | YAZOO COUNTY
MISSOURI
BENTON COUNTY | BENTON COUNTY
CALDWELL COUNTY | CALDWELL COUNTY
DENT COUNTY | DENT COUNTY
DOUGLAS COUNTY | DOUGLAS COUNTY
HICKORY COUNTY | HICKORY COUNTY
IRON COUNTY | IRON COUNTY
LINN COUNTY | LINN COUNTY
MADISON COUNTY | MADISON COUNTY
MISSISSIPPI COUNTY | MISSISSIPPI COUNTY
NEW MADRID COUNTY | NEW MADRID COUNTY
PEMISCOT COUNTY | PEMISCOT COUNTY
PULASKI COUNTY | PULASKI COUNTY
ST LOUIS CITY | ST LOUIS CITY
ST. FRANCOIS COUNTY | ST. FRANCOIS COUNTY
STODDARD COUNTY | STODDARD COUNTY
STONE COUNTY | STONE COUNTY
TANEY COUNTY | TANEY COUNTY
TEXAS COUNTY | TEXAS COUNTY
WASHINGTON COUNTY | WASHINGTON COUNTY
WAYNE COUNTY | WAYNE COUNTY
WRIGHT COUNTY | WRIGHT COUNTY
MONTANA
ANACONDA-DEER LODGE COUNTY | ANACONDA-DEER LODGE COUNTY
BIG HORN COUNTY | BIG HORN COUNTY
BLAINE COUNTY | BLAINE COUNTY
FLATHEAD COUNTY | FLATHEAD COUNTY
GLACIER COUNTY | GLACIER COUNTY
GOLDEN VALLEY COUNTY | GOLDEN VALLEY COUNTY
GRANITE COUNTY | GRANITE COUNTY
LAKE COUNTY | LAKE COUNTY
LINCOLN COUNTY | LINCOLN COUNTY
MINERAL COUNTY | MINERAL COUNTY
MUSSELSHELL COUNTY | MUSSELSHELL COUNTY
PHILLIPS COUNTY | PHILLIPS COUNTY
RAVALLI COUNTY | RAVALLI COUNTY
RICHLAND COUNTY | RICHLAND COUNTY
ROOSEVELT COUNTY | ROOSEVELT COUNTY
ROSEBUD COUNTY | ROSEBUD COUNTY
SANDERS COUNTY | SANDERS COUNTY
WHEATLAND COUNTY | WHEATLAND COUNTY
NEBRASKA
THURSTON COUNTY | THURSTON COUNTY
NEVADA
CHURCHILL COUNTY | CHURCHILL COUNTY
ESMERALDA COUNTY | ESMERALDA COUNTY
HUMBOLDT COUNTY | HUMBOLDT COUNTY
LANDER COUNTY | LANDER COUNTY
LINCOLN COUNTY | LINCOLN COUNTY
LYON COUNTY | LYON COUNTY
MINERAL COUNTY | MINERAL COUNTY
NORTH LAS VEGAS CITY | NORTH LAS VEGAS CITY IN CLARK COUNTY
NEW JERSEY
ATLANTIC CITY | ATLANTIC CITY IN ATLANTIC COUNTY
BALANCE OF ATLANTIC COUNTY | ATLANTIC COUNTY LESS ATLANTIC CITY, EGG HARBOR TOWNSHIP, GALLOWAY TOWNSHIP
CAMDEN CITY | CAMDEN CITY IN CAMDEN COUNTY
CAPE MAY COUNTY | CAPE MAY COUNTY
CITY OF ORANGE TOWNSHIP | CITY OF ORANGE TOWNSHIP IN ESSEX COUNTY
BALANCE OF CUMBERLAND COUNTY | CUMBERLAND COUNTY LESS MILLVILLE CITY, VINELAND CITY
EAST ORANGE CITY | EAST ORANGE CITY IN ESSEX COUNTY
EGG HARBOR TOWNSHIP | EGG HARBOR TOWNSHIP IN ATLANTIC COUNTY
ELIZABETH CITY | ELIZABETH CITY IN UNION COUNTY
IRVINGTON TOWNSHIP | IRVINGTON TOWNSHIP IN ESSEX COUNTY
JERSEY CITY | JERSEY CITY IN HUDSON COUNTY
LONG BRANCH CITY | LONG BRANCH CITY IN MONMOUTH COUNTY
MILLVILLE CITY | MILLVILLE CITY IN CUMBERLAND COUNTY
NEW BRUNSWICK CITY | NEW BRUNSWICK CITY IN MIDDLESEX COUNTY
NEWARK CITY | NEWARK CITY IN ESSEX COUNTY
NORTH BERGEN TOWNSHIP | NORTH BERGEN TOWNSHIP IN HUDSON COUNTY
PASSAIC CITY | PASSAIC CITY IN PASSAIC COUNTY
PATERSON CITY | PATERSON CITY IN PASSAIC COUNTY
PERTH AMBOY CITY | PERTH AMBOY CITY IN MIDDLESEX COUNTY
PLAINFIELD CITY | PLAINFIELD CITY IN UNION COUNTY
TRENTON CITY | TRENTON CITY IN MERCER COUNTY
UNION CITY | UNION CITY IN HUDSON COUNTY
VINELAND CITY | VINELAND CITY IN CUMBERLAND COUNTY
WEST NEW YORK TOWN | WEST NEW YORK TOWN IN HUDSON COUNTY
NEW MEXICO
CARLSBAD CITY | CARLSBAD CITY IN EDDY COUNTY
CATRON COUNTY | CATRON COUNTY
BALANCE OF CHAVES COUNTY | CHAVES COUNTY LESS ROSWELL CITY
CIBOLA COUNTY | CIBOLA COUNTY
COLFAX COUNTY | COLFAX COUNTY
BALANCE OF DONA ANA COUNTY | DONA ANA COUNTY LESS LAS CRUCES CITY
BALANCE OF EDDY COUNTY | EDDY COUNTY LESS CARLSBAD CITY
GRANT COUNTY | GRANT COUNTY
GUADALUPE COUNTY | GUADALUPE COUNTY
HIDALGO COUNTY | HIDALGO COUNTY
HOBBS CITY | HOBBS CITY IN LEA COUNTY
LAS CRUCES CITY | LAS CRUCES CITY IN DONA ANA COUNTY
BALANCE OF LEA COUNTY | LEA COUNTY LESS HOBBS CITY
LUNA COUNTY | LUNA COUNTY
MC KINLEY COUNTY | MC KINLEY COUNTY
MORA COUNTY | MORA COUNTY
BALANCE OF OTERO COUNTY | OTERO COUNTY LESS ALAMOGORDO CITY
RIO ARRIBA COUNTY | RIO ARRIBA COUNTY
ROSWELL CITY | ROSWELL CITY IN CHAVES COUNTY
BALANCE OF SAN JUAN COUNTY | SAN JUAN COUNTY LESS FARMINGTON CITY
SAN MIGUEL COUNTY | SAN MIGUEL COUNTY
BALANCE OF SANDOVAL COUNTY | SANDOVAL COUNTY LESS RIO RANCHO CITY
TAOS COUNTY | TAOS COUNTY
NEW YORK
ALLEGANY COUNTY | ALLEGANY COUNTY
AUBURN CITY | AUBURN CITY IN CAYUGA COUNTY
BRONX COUNTY | BRONX COUNTY
BUFFALO CITY | BUFFALO CITY IN ERIE COUNTY
CATTARAUGUS COUNTY | CATTARAUGUS COUNTY
CLINTON COUNTY | CLINTON COUNTY
CORTLAND COUNTY | CORTLAND COUNTY
ELMIRA CITY | ELMIRA CITY IN CHEMUNG COUNTY
ESSEX COUNTY | ESSEX COUNTY
FRANKLIN COUNTY | FRANKLIN COUNTY
FULTON COUNTY | FULTON COUNTY
HAMILTON COUNTY | HAMILTON COUNTY
BALANCE OF JEFFERSON COUNTY | JEFFERSON COUNTY LESS WATERTOWN CITY
KINGS COUNTY | KINGS COUNTY
LEWIS COUNTY | LEWIS COUNTY
LOCKPORT CITY | LOCKPORT CITY IN NIAGARA COUNTY
MONTGOMERY COUNTY | MONTGOMERY COUNTY
NEW YORK COUNTY | NEW YORK COUNTY
NEWBURGH CITY | NEWBURGH CITY IN ORANGE COUNTY
NIAGARA FALLS CITY | NIAGARA FALLS CITY IN NIAGARA COUNTY
OSWEGO COUNTY | OSWEGO COUNTY
QUEENS COUNTY | QUEENS COUNTY
RICHMOND COUNTY | RICHMOND COUNTY
ROCHESTER CITY | ROCHESTER CITY IN MONROE COUNTY
ST. LAWRENCE COUNTY | ST. LAWRENCE COUNTY
SULLIVAN COUNTY | SULLIVAN COUNTY
BALANCE OF WARREN COUNTY | WARREN COUNTY LESS QUEENSBURY TOWN
WATERTOWN CITY | WATERTOWN CITY IN JEFFERSON COUNTY
WYOMING COUNTY | WYOMING COUNTY
NORTH CAROLINA
ANSON COUNTY | ANSON COUNTY
ASHE COUNTY | ASHE COUNTY
BEAUFORT COUNTY | BEAUFORT COUNTY
CHEROKEE COUNTY | CHEROKEE COUNTY
COLUMBUS COUNTY | COLUMBUS COUNTY
DUPLIN COUNTY | DUPLIN COUNTY
BALANCE OF EDGECOMBE COUNTY | EDGECOMBE COUNTY LESS ROCKY MOUNT CITY
GRAHAM COUNTY | GRAHAM COUNTY
HALIFAX COUNTY | HALIFAX COUNTY
HOKE COUNTY | HOKE COUNTY
HYDE COUNTY | HYDE COUNTY
KINSTON CITY | KINSTON CITY IN LENOIR COUNTY
MARTIN COUNTY | MARTIN COUNTY
MITCHELL COUNTY | MITCHELL COUNTY
NORTHAMPTON COUNTY | NORTHAMPTON COUNTY
RICHMOND COUNTY | RICHMOND COUNTY
ROBESON COUNTY | ROBESON COUNTY
ROCKY MOUNT CITY | ROCKY MOUNT CITY IN EDGECOMBE COUNTY NASH COUNTY
SCOTLAND COUNTY | SCOTLAND COUNTY
SWAIN COUNTY | SWAIN COUNTY
TYRRELL COUNTY | TYRRELL COUNTY
VANCE COUNTY | VANCE COUNTY
WARREN COUNTY | WARREN COUNTY
WASHINGTON COUNTY | WASHINGTON COUNTY
WILSON CITY | WILSON CITY IN WILSON COUNTY
NORTH DAKOTA
BENSON COUNTY | BENSON COUNTY
MC LEAN COUNTY | MC LEAN COUNTY
MERCER COUNTY | MERCER COUNTY
MOUNTRAIL COUNTY | MOUNTRAIL COUNTY
PEMBINA COUNTY | PEMBINA COUNTY
ROLETTE COUNTY | ROLETTE COUNTY
SHERIDAN COUNTY | SHERIDAN COUNTY
SIOUX COUNTY | SIOUX COUNTY
OHIO
ADAMS COUNTY | ADAMS COUNTY
ASHTABULA COUNTY | ASHTABULA COUNTY
CANTON CITY | CANTON CITY IN STARK COUNTY
CLEVELAND CITY | CLEVELAND CITY IN CUYAHOGA COUNTY
DAYTON CITY | DAYTON CITY IN MONTGOMERY COUNTY
EAST CLEVELAND CITY | EAST CLEVELAND CITY IN CUYAHOGA COUNTY
GALLIA COUNTY | GALLIA COUNTY
GUERNSEY COUNTY | GUERNSEY COUNTY
HARRISON COUNTY | HARRISON COUNTY
HOCKING COUNTY | HOCKING COUNTY
HURON COUNTY | HURON COUNTY
JACKSON COUNTY | JACKSON COUNTY
JEFFERSON COUNTY | JEFFERSON COUNTY
LAWRENCE COUNTY | LAWRENCE COUNTY
LIMA CITY | LIMA CITY IN ALLEN COUNTY
LORAIN CITY | LORAIN CITY IN LORAIN COUNTY
MANSFIELD CITY | MANSFIELD CITY IN RICHLAND COUNTY
MEIGS COUNTY | MEIGS COUNTY
MERCER COUNTY | MERCER COUNTY
MONROE COUNTY | MONROE COUNTY
MORGAN COUNTY | MORGAN COUNTY
NOBLE COUNTY | NOBLE COUNTY
OTTAWA COUNTY | OTTAWA COUNTY
PERRY COUNTY | PERRY COUNTY
PIKE COUNTY | PIKE COUNTY
SANDUSKY CITY | SANDUSKY CITY IN ERIE COUNTY
SCIOTO COUNTY | SCIOTO COUNTY
TOLEDO CITY | TOLEDO CITY IN LUCAS COUNTY
VINTON COUNTY | VINTON COUNTY
WARREN CITY | WARREN CITY IN TRUMBULL COUNTY
YOUNGSTOWN CITY | YOUNGSTOWN CITY IN MAHONING COUNTY
ZANESVILLE CITY | ZANESVILLE CITY IN MUSKINGUM COUNTY
OKLAHOMA
ADAIR COUNTY | ADAIR COUNTY
CHOCTAW COUNTY | CHOCTAW COUNTY
COAL COUNTY | COAL COUNTY
GARVIN COUNTY | GARVIN COUNTY
HASKELL COUNTY | HASKELL COUNTY
HUGHES COUNTY | HUGHES COUNTY
BALANCE OF KAY COUNTY | KAY COUNTY LESS PONCA CITY
LATIMER COUNTY | LATIMER COUNTY
LE FLORE COUNTY | LE FLORE COUNTY
MC CURTAIN COUNTY | MC CURTAIN COUNTY
MC INTOSH COUNTY | MC INTOSH COUNTY
MURRAY COUNTY | MURRAY COUNTY
BALANCE OF MUSKOGEE COUNTY | MUSKOGEE COUNTY LESS MUSKOGEE CITY
OKFUSKEE COUNTY | OKFUSKEE COUNTY
OKMULGEE COUNTY | OKMULGEE COUNTY
OTTAWA COUNTY | OTTAWA COUNTY
PITTSBURG COUNTY | PITTSBURG COUNTY
PONCA CITY | PONCA CITY IN KAY COUNTY
PUSHMATAHA COUNTY | PUSHMATAHA COUNTY
SEMINOLE COUNTY | SEMINOLE COUNTY
SEQUOYAH COUNTY | SEQUOYAH COUNTY
STEPHENS COUNTY | STEPHENS COUNTY
OREGON
ALBANY CITY | ALBANY CITY IN LINN COUNTY
BAKER COUNTY | BAKER COUNTY
COLUMBIA COUNTY | COLUMBIA COUNTY
COOS COUNTY | COOS COUNTY
CROOK COUNTY | CROOK COUNTY
CURRY COUNTY | CURRY COUNTY
BALANCE OF DESCHUTES COUNTY | DESCHUTES COUNTY LESS BEND CITY
DOUGLAS COUNTY | DOUGLAS COUNTY
GRANT COUNTY | GRANT COUNTY
HARNEY COUNTY | HARNEY COUNTY
HOOD RIVER COUNTY | HOOD RIVER COUNTY
BALANCE OF JACKSON COUNTY | JACKSON COUNTY LESS MEDFORD CITY
JEFFERSON COUNTY | JEFFERSON COUNTY
JOSEPHINE COUNTY | JOSEPHINE COUNTY
KLAMATH COUNTY | KLAMATH COUNTY
LAKE COUNTY | LAKE COUNTY
LINCOLN COUNTY | LINCOLN COUNTY
BALANCE OF LINN COUNTY | LINN COUNTY LESS ALBANY CITY
MALHEUR COUNTY | MALHEUR COUNTY
MEDFORD CITY | MEDFORD CITY IN JACKSON COUNTY
MORROW COUNTY | MORROW COUNTY
SALEM CITY | SALEM CITY IN MARION COUNTY, POLK COUNTY
SPRINGFIELD CITY | SPRINGFIELD CITY IN LANE COUNTY
UMATILLA COUNTY | UMATILLA COUNTY
UNION COUNTY | UNION COUNTY
WALLOWA COUNTY | WALLOWA COUNTY
WASCO COUNTY | WASCO COUNTY
WHEELER COUNTY | WHEELER COUNTY
PENNSYLVANIA
ARMSTRONG COUNTY | ARMSTRONG COUNTY
BEDFORD COUNTY | BEDFORD COUNTY
BALANCE OF CAMBRIA COUNTY | CAMBRIA COUNTY LESS JOHNSTOWN CITY
CAMERON COUNTY | CAMERON COUNTY
CARBON COUNTY | CARBON COUNTY
CHESTER CITY | CHESTER CITY IN DELAWARE COUNTY
CLEARFIELD COUNTY | CLEARFIELD COUNTY
CLINTON COUNTY | CLINTON COUNTY
ELK COUNTY | ELK COUNTY
FAYETTE COUNTY | FAYETTE COUNTY
FOREST COUNTY | FOREST COUNTY
GREENE COUNTY | GREENE COUNTY
HAZLETON CITY | HAZLETON CITY IN LUZERNE COUNTY
HUNTINGDON COUNTY | HUNTINGDON COUNTY
INDIANA COUNTY | INDIANA COUNTY
JEFFERSON COUNTY | JEFFERSON COUNTY
JOHNSTOWN CITY | JOHNSTOWN CITY IN CAMBRIA COUNTY
JUNIATA COUNTY | JUNIATA COUNTY
BALANCE OF LUZERNE COUNTY | LUZERNE COUNTY LESS HAZLETON CITY, WILKES-BARRE CITY
MCKEESPORT CITY | MCKEESPORT CITY IN ALLEGHENY COUNTY
MIFFLIN COUNTY | MIFFLIN COUNTY
MONROE COUNTY | MONROE COUNTY
NEW CASTLE CITY | NEW CASTLE CITY IN LAWRENCE COUNTY
PHILADELPHIA CITY | PHILADELPHIA CITY IN PHILADELPHIA COUNTY
POTTER COUNTY | POTTER COUNTY
SCHUYLKILL COUNTY | SCHUYLKILL COUNTY
SOMERSET COUNTY | SOMERSET COUNTY
SULLIVAN COUNTY | SULLIVAN COUNTY
WAYNE COUNTY | WAYNE COUNTY
WILKES-BARRE CITY | WILKES-BARRE CITY IN LUZERNE COUNTY
WILLIAMSPORT CITY | WILLIAMSPORT CITY IN LYCOMING COUNTY
WYOMING COUNTY | WYOMING COUNTY
PUERTO RICO
ADJUNTAS MUNICIPIO | ADJUNTAS MUNICIPIO
AGUADA MUNICIPIO | AGUADA MUNICIPIO
AGUADILLA MUNICIPIO | AGUADILLA MUNICIPIO
AGUAS BUENAS MUNICIPIO | AGUAS BUENAS MUNICIPIO
AIBONITO MUNICIPIO | AIBONITO MUNICIPIO
ANASCO MUNICIPIO | ANASCO MUNICIPIO
ARECIBO MUNICIPIO | ARECIBO MUNICIPIO
ARROYO MUNICIPIO | ARROYO MUNICIPIO
BARCELONETA MUNICIPIO | BARCELONETA MUNICIPIO
BARRANQUITAS MUNICIPIO | BARRANQUITAS MUNICIPIO
BAYAMON MUNICIPIO | BAYAMON MUNICIPIO
CABO ROJO MUNICIPIO | CABO ROJO MUNICIPIO
CAGUAS MUNICIPIO | CAGUAS MUNICIPIO
CAMUY MUNICIPIO | CAMUY MUNICIPIO
CANOVANAS MUNICIPIO | CANOVANAS MUNICIPIO
CAROLINA MUNICIPIO | CAROLINA MUNICIPIO
CATANO MUNICIPIO | CATANO MUNICIPIO
CAYEY MUNICIPIO | CAYEY MUNICIPIO
CEIBA MUNICIPIO | CEIBA MUNICIPIO
CIALES MUNICIPIO | CIALES MUNICIPIO
CIDRA MUNICIPIO | CIDRA MUNICIPIO
COAMO MUNICIPIO | COAMO MUNICIPIO
COMERIO MUNICIPIO | COMERIO MUNICIPIO
COROZAL MUNICIPIO | COROZAL MUNICIPIO
DORADO MUNICIPIO | DORADO MUNICIPIO
FAJARDO MUNICIPIO | FAJARDO MUNICIPIO
FLORIDA MUNICIPIO | FLORIDA MUNICIPIO
GUANICA MUNICIPIO | GUANICA MUNICIPIO
GUAYAMA MUNICIPIO | GUAYAMA MUNICIPIO
GUAYANILLA MUNICIPIO | GUAYANILLA MUNICIPIO
GURABO MUNICIPIO | GURABO MUNICIPIO
HATILLO MUNICIPIO | HATILLO MUNICIPIO
HORMIGUEROS MUNICIPIO | HORMIGUEROS MUNICIPIO
HUMACAO MUNICIPIO | HUMACAO MUNICIPIO
ISABELA MUNICIPIO | ISABELA MUNICIPIO
JAYUYA MUNICIPIO | JAYUYA MUNICIPIO
JUANA DIAZ MUNICIPIO | JUANA DIAZ MUNICIPIO
JUNCOS MUNICIPIO | JUNCOS MUNICIPIO
LAJAS MUNICIPIO | LAJAS MUNICIPIO
LARES MUNICIPIO | LARES MUNICIPIO
LAS MARIAS MUNICIPIO | LAS MARIAS MUNICIPIO
LAS PIEDRAS MUNICIPIO | LAS PIEDRAS MUNICIPIO
LOIZA MUNICIPIO | LOIZA MUNICIPIO
LUQUILLO MUNICIPIO | LUQUILLO MUNICIPIO
MANATI MUNICIPIO | MANATI MUNICIPIO
MARICAO MUNICIPIO | MARICAO MUNICIPIO
MAUNABO MUNICIPIO | MAUNABO MUNICIPIO
MAYAGUEZ MUNICIPIO | MAYAGUEZ MUNICIPIO
MOCA MUNICIPIO | MOCA MUNICIPIO
MOROVIS MUNICIPIO | MOROVIS MUNICIPIO
NAGUABO MUNICIPIO | NAGUABO MUNICIPIO
NARANJITO MUNICIPIO | NARANJITO MUNICIPIO
OROCOVIS MUNICIPIO | OROCOVIS MUNICIPIO
PATILLAS MUNICIPIO | PATILLAS MUNICIPIO
PENUELAS MUNICIPIO | PENUELAS MUNICIPIO
PONCE MUNICIPIO | PONCE MUNICIPIO
QUEBRADILLAS MUNICIPIO | QUEBRADILLAS MUNICIPIO
RINCON MUNICIPIO | RINCON MUNICIPIO
RIO GRANDE MUNICIPIO | RIO GRANDE MUNICIPIO
SABANA GRANDE MUNICIPIO | SABANA GRANDE MUNICIPIO
SALINAS MUNICIPIO | SALINAS MUNICIPIO
SAN GERMAN MUNICIPIO | DAN GERMAN MUNICIPIO
SAN JUAN MUNICIPIO | SAN JUAN MUNICIPIO
SAN LORENZO MUNICIPIO | SAN LORENZO MUNICIPIO
SAN SEBASTIAN MUNICIPIO | SAN SEBASTIAN MUNICIPIO
SANTA ISABEL MUNICIPIO | SANTA ISABEL MUNICIPIO
TOA ALTA MUNICIPIO | TOA ALTA MUNICIPIO
TOA BAJA MUNICIPIO | TOA BAJA MUNICIPIO
TRUJILLO ALTO MUNICIPIO | TRUJILLO ALTO MUNICIPIO
UTUADO MUNICIPIO | UTUADO MUNICIPIO
VEGA ALTA MUNICIPIO | VEGA ALTA MUNICIPIO
VEGA BAJA MUNICIPIO | VEGA BAJA MUNICIPIO
VIEQUES MUNICIPIO | VIEQUES MUNICIPIO
VILLALBA MUNICIPIO | VILLALBA MUNICIPIO
YABUCOA MUNICIPIO | YABUCOA MUNICIPIO
YAUCO MUNICIPIO | YAUCO MUNICIPIO
RHODE ISLAND
CENTRAL FALLS CITY | CENTRAL FALLS CITY
NEW SHOREHAM TOWN | NEW SHOREHAM TOWN
SOUTH CAROLINA
ALLENDALE COUNTY | ALLENDALE COUNTY
BAMBERG COUNTY | BAMBERG COUNTY
BARNWELL COUNTY | BARNWELL COUNTY
CALHOUN COUNTY | CALHOUN COUNTY
CHESTER COUNTY | CHESTER COUNTY
CHESTERFIELD COUNTY | CHESTERFIELD COUNTY
CLARENDON COUNTY | CLARENDON COUNTY
DARLINGTON COUNTY | DARLINGTON COUNTY
DILLON COUNTY | DILLON COUNTY
FAIRFIELD COUNTY | FAIRFIELD COUNTY
GEORGETOWN COUNTY | GEORGETOWN COUNTY
GREENWOOD COUNTY | GREENWOOD COUNTY
LEE COUNTY | LEE COUNTY
MARION COUNTY | MARION COUNTY
MARLBORO COUNTY | MARLBORO COUNTY
MC CORMICK COUNTY | MC CORMICK COUNTY
ORANGEBURG COUNTY | ORANGEBURG COUNTY
UNION COUNTY | UNION COUNTY
WILLIAMSBURG COUNTY | WILLIAMSBURG COUNTY
SOUTH DAKOTA
BUFFALO COUNTY | BUFFALO COUNTY
CORSON COUNTY | CORSON COUNTY
DAY COUNTY | DAY COUNTY
DEWEY COUNTY | DEWEY COUNTY
MELLETTE COUNTY | MELLETTE COUNTY
SHANNON COUNTY | SHANNON COUNTY
TODD COUNTY | TODD COUNTY
ZIEBACH COUNTY | ZIEBACH COUNTY
TENNESSEE
BENTON COUNTY | BENTON COUNTY
CAMPBELL COUNTY | CAMPBELL COUNTY
CARROLL COUNTY | CARROLL COUNTY
CLAY COUNTY | CLAY COUNTY
COCKE COUNTY | COCKE COUNTY
DE KALB COUNTY | DE KALB COUNTY
DECATUR COUNTY | DECATUR COUNTY
FENTRESS COUNTY | FENTRESS COUNTY
GIBSON COUNTY | GIBSON COUNTY
GREENE COUNTY | GREENE COUNTY
GRUNDY COUNTY | GRUNDY COUNTY
HANCOCK COUNTY | HANCOCK COUNTY
HARDEMAN COUNTY | HARDEMAN COUNTY
HARDIN COUNTY | HARDIN COUNTY
HAYWOOD COUNTY | HAYWOOD COUNTY
HENDERSON COUNTY | HENDERSON COUNTY
HENRY COUNTY | HENRY COUNTY
HICKMAN COUNTY | HICKMAN COUNTY
HOUSTON COUNTY | HOUSTON COUNTY
HUMPHREYS COUNTY | HUMPHREYS COUNTY
JACKSON COUNTY | JACKSON COUNTY
JOHNSON COUNTY | JOHNSON COUNTY
LAKE COUNTY | LAKE COUNTY
LAUDERDALE COUNTY | LAUDERDALE COUNTY
LAWRENCE COUNTY | LAWRENCE COUNTY
LEWIS COUNTY | LEWIS COUNTY
MC MINN COUNTY | MC MINN COUNTY
MEIGS COUNTY | MEIGS COUNTY
MORGAN COUNTY | MORGAN COUNTY
OVERTON COUNTY | OVERTON COUNTY
PERRY COUNTY | PERRY COUNTY
PICKETT COUNTY | PICKETT COUNTY
RHEA COUNTY | RHEA COUNTY
SCOTT COUNTY | SCOTT COUNTY
SEVIER COUNTY | SEVIER COUNTY
STEWART COUNTY | STEWART COUNTY
TROUSDALE COUNTY | TROUSDALE COUNTY
VAN BUREN COUNTY | VAN BUREN COUNTY
WAYNE COUNTY | WAYNE COUNTY
TEXAS
ANDREWS COUNTY | ANDREWS COUNTY
BALANCE OF ANGELINA COUNTY | ANGELINA COUNTY LESS LUFKIN CITY
BEAUMONT CITY | BEAUMONT CITY IN JEFFERSON COUNTY
BALANCE OF BOWIE COUNTY | BOWIE COUNTY LESS TEXARKANA CITY TEX
BALANCE OF BRAZORIA COUNTY | BRAZORIA COUNTY LESS LAKE JACKSON CITY, PEARLAND CITY
BROOKS COUNTY | BROOKS COUNTY
BROWNSVILLE CITY | BROWNSVILLE CITY IN CAMERON COUNTY
CALHOUN COUNTY | CALHOUN COUNTY
BALANCE OF CAMERON COUNTY | CAMERON COUNTY LESS BROWNSVILLE CITY, HARLINGEN CITY
CAMP COUNTY | CAMP COUNTY
CASS COUNTY | CASS COUNTY
COLEMAN COUNTY | COLEMAN COUNTY
CORPUS CHRISTI CITY | CORPUS CHRISTI CITY IN, NUECES COUNTY
CRANE COUNTY | CRANE COUNTY
CROCKETT COUNTY | CROCKETT COUNTY
CROSBY COUNTY | CROSBY COUNTY
CULBERSON COUNTY | CULBERSON COUNTY
DAWSON COUNTY | DAWSON COUNTY
DEAF SMITH COUNTY | DEAF SMITH COUNTY
DEL RIO CITY | DEL RIO CITY IN VAL VERDE COUNTY
DIMMIT COUNTY | DIMMIT COUNTY
DUVAL COUNTY | DUVAL COUNTY
EAGLE PASS CITY | EAGLE PASS CITY IN MAVERICK COUNTY
BALANCE OF ECTOR COUNTY | ECTOR COUNTY LESS ODESSA CITY
EDINBURG CITY | EDINBURG CITY IN HIDALGO COUNTY
EDWARDS COUNTY | EDWARDS COUNTY
EL PASO CITY | EL PASO CITY IN EL PASO COUNTY CITY, SOCORRO CITY
BALANCE OF EL PASO COUNTY | EL PASO COUNTY LESS EL PASO CITY
FLOYD COUNTY | FLOYD COUNTY
FRIO COUNTY | FRIO COUNTY
GALVESTON CITY | GALVESTON CITY IN GALVESTON COUNTY
BALANCE OF GALVESTON COUNTY | GALVESTON COUNTY LESS, FRIENDSWOOD CITY, GALVESTON CITY, LEAGUE CITY, TEXAS CITY
GARZA COUNTY | GARZA COUNTY
BALANCE OF GREGG COUNTY | GREGG COUNTY LESS LONGVIEW CITY
GRIMES COUNTY | GRIMES COUNTY
HALL COUNTY | HALL COUNTY
HARDIN COUNTY | HARDIN COUNTY
HARLINGEN CITY | HARLINGEN CITY IN CAMERON COUNTY
BALANCE OF HARRISON COUNTY | HARRISON COUNTY LESS LONGVIEW CITY
BALANCE OF HIDALGO COUNTY | HIDALGO COUNTY LESS EDINBURG CITY, MC ALLEN CITY, MISSION CITY, PHARR CITY, WESLACO CITY
HOCKLEY COUNTY | HOCKLEY COUNTY
HUTCHINSON COUNTY | HUTCHINSON COUNTY
JASPER COUNTY | JASPER COUNTY
JIM HOGG COUNTY | JIM HOGG COUNTY
JIM WELLS COUNTY | JIM WELLS COUNTY
KILLEEN CITY | KILLEEN CITY IN BELL COUNTY
KINGSVILLE CITY | KINGSVILLE CITY IN KLEBERG COUNTY
KINNEY COUNTY | KINNEY COUNTY
BALANCE OF KLEBERG COUNTY | KLEBERG COUNTY LESS KINGSVILLE CITY
LA SALLE COUNTY | LA SALLE COUNTY
LAMB COUNTY | LAMB COUNTY
LAREDO CITY | LAREDO CITY IN WEBB COUNTY
LEON COUNTY | LEON COUNTY
LIBERTY COUNTY | LIBERTY COUNTY
LONGVIEW CITY | LONGVIEW CITY IN GREGG COUNTY, HARRISON COUNTY
LOVING COUNTY | LOVING COUNTY
MARION COUNTY | MARION COUNTY
MATAGORDA COUNTY | MATAGORDA COUNTY
BALANCE OF MAVERICK COUNTY | MAVERICK COUNTY LESS EAGLE PASS CITY
MC ALLEN CITY | MC ALLEN CITY IN HIDALGO COUNTY
MISSION CITY | MISSION CITY IN HIDALGO COUNTY
MITCHELL COUNTY | MITCHELL COUNTY
MORRIS COUNTY | MORRIS COUNTY
NEWTON COUNTY | NEWTON COUNTY
NOLAN COUNTY | NOLAN COUNTY
BALANCE OF NUECES COUNTY | NUECES COUNTY LESS CORPUS CHRISTI CITY
ODESSA CITY | ODESSA CITY IN ECTOR COUNTY
ORANGE COUNTY | ORANGE COUNTY
PANOLA COUNTY | PANOLA COUNTY
PARIS CITY | PARIS CITY IN LAMAR COUNTY
PECOS COUNTY | PECOS COUNTY
PHARR CITY | PHARR CITY IN HIDALGO COUNTY
PORT ARTHUR CITY | PORT ARTHUR CITY IN JEFFERSON COUNTY
PRESIDIO COUNTY | PRESIDIO COUNTY
REAGAN COUNTY | REAGAN COUNTY
REEVES COUNTY | REEVES COUNTY
SABINE COUNTY | SABINE COUNTY
SAN AUGUSTINE COUNTY | SAN AUGUSTINE COUNTY
SAN PATRICIO COUNTY | SAN PATRICIO COUNTY
SCURRY COUNTY | SCURRY COUNTY
SHELBY COUNTY | SHELBY COUNTY
SOCORRO CITY | SOCORRO CITY IN EL PASO COUNTY
SOMERVELL COUNTY | SOMERVELL COUNTY
STARR COUNTY | STARR COUNTY
TERRY COUNTY | TERRY COUNTY
TEXARKANA CITY TEX | TEXARKANA CITY TEX IN BOWIE COUNTY
TEXAS CITY | TEXAS CITY IN GALVESTON COUNTY
TITUS COUNTY | TITUS COUNTY
TYLER COUNTY | TYLER COUNTY
UPSHUR COUNTY | UPSHUR COUNTY
UPTON COUNTY | UPTON COUNTY
UVALDE COUNTY | UVALDE COUNTY
BALANCE OF VAL VERDE COUNTY | VAL VERDE COUNTY LESS DEL RIO CITY
WARD COUNTY | WARD COUNTY
BALANCE OF WEBB COUNTY | WEBB COUNTY LESS LAREDO CITY
WESLACO CITY | WESLACO CITY IN HIDALGO COUNTY
WILLACY COUNTY | WILLACY COUNTY
WINKLER COUNTY | WINKLER COUNTY
YOAKUM COUNTY | YOAKUM COUNTY
ZAPATA COUNTY | ZAPATA COUNTY
ZAVALA COUNTY | ZAVALA COUNTY
UTAH
CARBON COUNTY | CARBON COUNTY
DUCHESNE COUNTY | DUCHESNE COUNTY
EMERY COUNTY | EMERY COUNTY
GARFIELD COUNTY | GARFIELD COUNTY
GRAND COUNTY | GRAND COUNTY
OGDEN CITY | OGDEN CITY IN WEBER COUNTY
SAN JUAN COUNTY | SAN JUAN COUNTY
UINTAH COUNTY | UINTAH COUNTY
WAYNE COUNTY | WAYNE COUNTY
VERMONT
ESSEX COUNTY | ESSEX COUNTY
ORLEANS COUNTY | ORLEANS COUNTY
VIRGINIA
ACCOMACK COUNTY | ACCOMACK COUNTY
BUCHANAN COUNTY | BUCHANAN COUNTY
CARROLL COUNTY | CARROLL COUNTY
COVINGTON CITY | COVINGTON CITY
DANVILLE CITY | DANVILLE CITY
DICKENSON COUNTY | DICKENSON COUNTY
GILES COUNTY | GILES COUNTY
HALIFAX COUNTY | HALIFAX COUNTY
LANCASTER COUNTY | LANCASTER COUNTY
LEE COUNTY | LEE COUNTY
MARTINSVILLE CITY | MARTINSVILLE CITY
NORTHUMBERLAND COUNTY | NORTHUMBERLAND COUNTY
NORTON CITY | NORTON CITY
RUSSELL COUNTY | RUSSELL COUNTY
SCOTT COUNTY | SCOTT COUNTY
SURRY COUNTY | SURRY COUNTY
TAZEWELL COUNTY | TAZEWELL COUNTY
WISE COUNTY | WISE COUNTY
WASHINGTON
ADAMS COUNTY | ADAMS COUNTY
BALANCE OF BENTON COUNTY | BENTON COUNTY LESS KENNEWICK CITY RICHLAND CITY
BREMERTON CITY | BREMERTON CITY IN KITSAP COUNTY
CHELAN COUNTY | CHELAN COUNTY
CLALLAM COUNTY | CLALLAM COUNTY
COLUMBIA COUNTY | COLUMBIA COUNTY
BALANCE OF COWLITZ COUNTY | COWLITZ COUNTY LESS LONGVIEW CITY
DOUGLAS COUNTY | DOUGLAS COUNTY
FERRY COUNTY | FERRY COUNTY
GRANT COUNTY | GRANT COUNTY
GRAYS HARBOR COUNTY | GRAYS HARBOR COUNTY
JEFFERSON COUNTY | JEFFERSON COUNTY
KENNEWICK CITY | KENNEWICK CITY IN BENTON COUNTY
KLICKITAT COUNTY | KLICKITAT COUNTY
LAKEWOOD CITY | LAKEWOOD CITY IN PIERCE COUNTY
LEWIS COUNTY | LEWIS COUNTY
LONGVIEW CITY | LONGVIEW CITY IN COWLITZ COUNTY
MASON COUNTY | MASON COUNTY
OKANOGAN COUNTY | OKANOGAN COUNTY
PACIFIC COUNTY | PACIFIC COUNTY
PASCO CITY | PASCO CITY IN FRANKLIN COUNTY
PEND OREILLE COUNTY | PEND OREILLE COUNTY
SKAGIT COUNTY | SKAGIT COUNTY
SKAMANIA COUNTY | SKAMANIA COUNTY
STEVENS COUNTY | STEVENS COUNTY
WAHKIAKUM COUNTY | WAHKIAKUM COUNTY
WALLA WALLA CITY | WALLA WALLA CITY IN WALLA WALLA COUNTY
YAKIMA CITY | YAKIMA CITY IN YAKIMA COUNTY
BALANCE OF YAKIMA COUNTY | YAKIMA COUNTY LESS YAKIMA CITY
WEST VIRGINIA
BARBOUR COUNTY | BARBOUR COUNTY
BOONE COUNTY | BOONE COUNTY
BRAXTON COUNTY | BRAXTON COUNTY
BROOKE COUNTY | BROOKE COUNTY
CALHOUN COUNTY | CALHOUN COUNTY
CLAY COUNTY | CLAY COUNTY
DODDRIDGE COUNTY | DODDRIDGE COUNTY
FAYETTE COUNTY | FAYETTE COUNTY
GILMER COUNTY | GILMER COUNTY
GRANT COUNTY | GRANT COUNTY
GREENBRIER COUNTY | GREENBRIER COUNTY
HANCOCK COUNTY | HANCOCK COUNTY
HARRISON COUNTY | HARRISON COUNTY
HUNTINGTON CITY | HUNTINGTON CITY IN CABELL COUNTY, WAYNE COUNTY
JACKSON COUNTY | JACKSON COUNTY
LEWIS COUNTY | LEWIS COUNTY
LINCOLN COUNTY | LINCOLN COUNTY
LOGAN COUNTY | LOGAN COUNTY
MARION COUNTY | MARION COUNTY
BALANCE OF MARSHALL COUNTY | MARSHALL COUNTY LESS WHEELING CITY
MASON COUNTY | MASON COUNTY
MC DOWELL COUNTY | MC DOWELL COUNTY
MINERAL COUNTY | MINERAL COUNTY
MINGO COUNTY | MINGO COUNTY
NICHOLAS COUNTY | NICHOLAS COUNTY
PARKERSBURG CITY | PARKERSBURG CITY IN WOOD COUNTY
PLEASANTS COUNTY | PLEASANTS COUNTY
POCAHONTAS COUNTY | POCAHONTAS COUNTY
PRESTON COUNTY | PRESTON COUNTY
RALEIGH COUNTY | RALEIGH COUNTY
RANDOLPH COUNTY | RANDOLPH COUNTY
RITCHIE COUNTY | RITCHIE COUNTY
ROANE COUNTY | ROANE COUNTY
SUMMERS COUNTY | SUMMERS COUNTY
TAYLOR COUNTY | TAYLOR COUNTY
TUCKER COUNTY | TUCKER COUNTY
TYLER COUNTY | TYLER COUNTY
UPSHUR COUNTY | UPSHUR COUNTY
BALANCE OF WAYNE COUNTY | WAYNE COUNTY LESS HUNTINGTON CITY
WEBSTER COUNTY | WEBSTER COUNTY
WETZEL COUNTY | WETZEL COUNTY
WIRT COUNTY | WIRT COUNTY
WYOMING COUNTY | WYOMING COUNTY
WISCONSIN
ASHLAND COUNTY | ASHLAND COUNTY
BAYFIELD COUNTY | BAYFIELD COUNTY
FLORENCE COUNTY | FLORENCE COUNTY
FOREST COUNTY | FOREST COUNTY
IRON COUNTY | IRON COUNTY
JUNEAU COUNTY | JUNEAU COUNTY
MENOMINEE COUNTY | MENOMINEE COUNTY
PRICE COUNTY | PRICE COUNTY
RACINE CITY | RACINE CITY IN RACINE COUNTY
WYOMING
BIG HORN COUNTY | BIG HORN COUNTY
FREMONT COUNTY | FREMONT COUNTY
LINCOLN COUNTY | LINCOLN COUNTY
BALANCE OF NATRONA COUNTY | NATRONA COUNTY LESS CASPER CITY
UINTA COUNTY | UINTA COUNTY
WASHAKIE COUNTY | WASHAKIE COUNTY

[FR Doc. 00-28838 Filed 11-14-00; 8:45 am]

BILLING CODE 4510-30-P